DEPARTMENT OF ENERGY

Federal Energy Regulatory Commission

[Docket No. RP01-172-000]

Mojave Pipeline Company; Notice of Informal Settlement Conference

October 3, 2001.

Take notice that an informal settlement conference in this proceeding will be convened on Friday, October 12, 2001 at 10:00 a.m. The settlement conference will be held at the offices of the Federal Energy Regulatory Commission, 888 First Street, NE., Washington, DC 20426, for the purpose of discussing the terms of a draft settlement agreement in the above referenced docket.

Any party, as defined by 18 CFR 385.102(c), or any participant as defined in 18 CFR 385.102(b), is invited to attend. Persons wishing to become a party must move to intervene and receive intervenor status pursuant to the Commission's regulations (18 CFR 385.214).

For additional information, contact Carmen Gastilo at 208-2182 or Dawn K. Martin at 208-0661.

David P. Boergers,
Secretary.

[FR Doc. 01-25367 Filed 10-9-01; 8:45 am]

BILLING CODE 6717-01-P